DEPARTMENT OF HEALTH AND HUMAN SERVICES

Centers for Disease Control and Prevention

Solicitation for Nominations for New Primary and Secondary Public Health Topics To Be Considered for Review by the Task Force on Community Preventive Services

AGENCY: Centers for Disease Control and Prevention (CDC), Department of Health and Human Services (HHS).

ACTION: Solicit for new topic nominations.

SUMMARY: The Centers for Disease Control and Prevention (CDC) invites individuals and organizations to nominate public health topic areas or related population-oriented interventions (i.e., interventions delivered to groups of people in communities or healthcare systems) for the Task Force on Community Preventive Services (Task Force) to consider for review. Topics that have been recently reviewed by the Task Force or are currently under review are listed below in the SUPPLEMENTARY INFORMATION section.

The Task Force is an independent panel of experts that makes evidence-based recommendations regarding use of population-based interventions, which are selected from broad topic areas. Recommendations are based on the evidence gathered in rigorous and systematic scientific reviews of published studies conducted by Guide to Community Preventive Services (Community Guide) scientific teams. The findings from reviews are published in peer-reviewed journals and made available through the Community Guide Web site (http://thecommunityguide.org). Community Guide topics coordinate with Healthy People 2010 objectives; address topics related to the large preventable burden of disease; provide guidance on ways to reduce disease, injury, and impairment; and address social challenges.

Topics can be nominated by individuals or organizations. The Task Force will consider nominations and prioritize topics for review using the following criteria: Public health importance (burden of disease, injury, impairment, or exposure); preventability (amount of burden that could realistically be reduced given adequate resources); relationship to other public health initiatives; and usefulness of the package of topics selected and level of current research and intervention activity in the public and private sectors. The Task Force will also prioritize topics for which there are gaps in the evidence and the potential to significantly improve public health decisionmaking. Nominations can be for new topics or topics previously reviewed by the Task Force.

Basic Topic Nomination Requirements: Nominations must be no more than 250 words long and must include the following information. (A separate appendix, not included in the word count, can contain references and supporting documents.)

1. Name of topic or intervention.

2. Rationale for consideration by the Task Force, to include as appropriate:

a. Justification that topic area addresses risk behaviors related to the largest burden of disease; provides guidance on ways to reduce disease, injury, and impairment; or addresses environmental and social challenges.

b. Description of public health importance (burden of disease, injury, impairment, or exposure). Citations and supporting documents are recommended.

c. Public health relevance (amount of burden that could realistically be reduced given adequate resources).

d. Summary of new evidence, if any, that has potential to affect the Task Force's recommendation on a previously reviewed topic. Please refer to http://thecommunityguide.org for current Task Force recommendations. Citations and supporting documents are recommended.

e. In topic areas that have already been addressed or identified as high priority by the Task Force, important interventions that have not yet been addressed or where additional new information may lead to updated conclusions can be identified. Please refer to http://thecommunityguide.org for existing Task Force recommendations. Citations and supporting documents are recommended.

DATES: Topic nominations should be submitted by June 23, 2006, to be considered for 2006-2008. CDC will not reply to submissions but will consider all topic nominations during the selection process. If a topic is selected for review by the Task Force, the nominator will be notified by CDC.

ADDRESSES: Please submit nominations to: Detrice Sherman, MPH, ATTN: Task Force Topic Nominations, National Center for Health Marketing, Community Guide, Centers for Disease Control and Prevention, 4770 Buford Highway, MS K-95, Atlanta, GA 30341, Fax: 404-498-0979, E-mail: dsherman@cdc.gov. For further information please contact: Detrice Sherman at dsherman@cdc.gov or Peter Briss at pbriss@cdc.gov.

SUPPLEMENTARY INFORMATION:

Background

The scientific literature on specific health problems can be large, inconsistent, uneven in quality, or inaccessible. Through rigorous and systematic scientific reviews of published studies, the Guide to Community Preventive Services (Community Guide) serves as a filter for this information—using systematic review methods to summarize what is known about the effectiveness, economic efficiency, and feasibility of interventions to promote community health and prevent disease. The Task Force on Community Preventive Services makes recommendations for the use of various interventions based on the evidence gathered in these reviews. The findings from the reviews are published in peer-reviewed journals and also made available on the Internet at http://www.thecommunityguide.org.

The Task Force is an independent panel of experts that makes evidence-based recommendations regarding population-based interventions. The group was convened in 1996 by the Department of Health and Human Services to provide leadership in the evaluation of community, population, and healthcare system strategies to address a variety of public health and health promotion topics such as physical activity. The Task Force's membership is multi-disciplinary, and includes perspectives representative of state and local health departments, managed care, academia, behavioral and social sciences, communications sciences, mental health, epidemiology, quantitative policy analysis, decision and cost-effectiveness analysis, information systems, primary care, and management and policy.

Solicitation of Topic Nominations

The purpose of this solicitation for new topics by CDC and the Task Force is to create a balanced portfolio of relevant topics for the current Task Force library. The current library is based on reviews and recommendations across a broad range of high burden, high interest topic areas: Changing health risk behaviors (adolescent health, physical activity, tobacco product use, nutrition, sexual behavior, alcohol abuse and misuse, substance abuse); addressing specific health conditions (cancer, diabetes, mental health, motor vehicle occupant injury, obesity, oral health, vaccine-preventable diseases, and violence prevention); and addressing the environment (improving health through changing the social environment, worksite health promotion). Selection of suggested topics will be made on the basis of qualifications of nominations as outlined above (see basic topic nomination requirements) and the current expertise of the Task Force.

Topics That Have Been Reviewed:

Diabetes, Informed Decision Making for Cancer Screening, Motor Vehicle Occupant Injury, Oral Health, Physical Activity, Skin Cancer Prevention, Social Environment, Tobacco, Vaccine Coverage, Vaccine Coverage in Adults at High Risk.

Topics Currently Under Review:

Adolescent Health, Alcohol, Cancer Screening (Breast, Cervical, and Colorectal), Improving Pregnancy Outcomes, Mental Health, Nutrition, Obesity, Sexual Behavior, Violence Prevention, Worksite Health Promotion.

Dated: May 23, 2006.
James D. Seligman,
Chief Information Officer, Centers for Disease Control and Prevention.

[FR Doc. E6-8351 Filed 5-30-06; 8:45 am]

BILLING CODE 4163-18-P